DEPARTMENT OF TRANSPORTATION

Federal Aviation Administration

[Summary Notice No. PE-2000-06]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 20, 2000.

ADDRESSES: Send comments on any petition in triplicate to: Federal Aviation Administration, Office of the Chief Counsel, Attn: Rule Docket (AGC-200), Petition Docket No. , 800 Independence Avenue, SW, Washington, DC 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW, Washington, DC 20591; telephone (202) 267-3132.

FOR FURTHER INFORMATION CONTACT: Cherie Jack (202) 267-7271 or Vanessa Wilkins (202) 267-8029 Office of Rulemaking (ARM-1), Federal Aviation Administration, 800 Independence Avenue, SW, Washington, DC 20591.

This notice is published pursuant to paragraphs (c), (e), and (g) of § 11.27 of Part 11 of the Federal Aviation Regulations (14 CFR Part 11).

Issued in Washington, DC, on February 23, 2000.
Donald P. Byrne,
Assistant Chief Counsel for Regulations.

Petitions for Exemption

Docket No.: 29849.

Petitioner: The Boeing Company.

Section of the FAR Affected: 14 CFR 21.325(b)(3).

Description of Relief Sought: To permit the issuance of export airworthiness approvals for Class II and Class III products manufactured in Japan by Jamco Corporation as an approved supplier to Boeing without the products first being shipped to the United States.

Dispositions of Petitions

Docket No.: 29695.

Petitioner: Raytheon Systems Company.

Section of the FAR Affected: 14 CFR 145.45(f).

Description of Relief Sought/Disposition: To permit Raytheon to make its Inspection Procedures Manual (IPM) available electronically to its supervisory, inspection, and other personnel rather than give a paper copy of the IPM to each of its supervisory and inspection personnel. Grant, 02/03/2000, Exemption No. 7115.

Docket No.: 29599.

Petitioner: Air Logistics, L.L.C.

Section of the FAR Affected: 14 CFR 145.45(f).

Description of Relief Sought/Disposition: To permit Air Logistics to place copies of its IPM in central locations in its repair station rather than giving a copy of its IPM to each of its supervisory and inspection personnel. Grant, 01/11/2000, Exemption No. 7097.

Docket No.: 29799.

Petitioner: Bombardier, Inc.

Section of the FAR Affected: 14 CFR 145.45(f).

Description of Relief Sought/Disposition: To permit Bombardier to place an adequate number of repair station IPMs in inspection areas and to assign IPMs to key individuals. Grant, 02/03/2000, Exemption No. 7114.

Docket No.: 28320.

Petitioner: Learjet, Inc.

Section of the FAR Affected: 14 CFR 145.45(f).

Description of Relief Sought/Disposition: To permit Learjet to place and maintain its IPM in a number of fixed locations within its facility and assign it to key individuals in lieu of giving a copy of its IPM to each of its supervisory and inspection personnel. Grant, 01/11/2000, Exemption No. 7098.

Docket No.: 28634.

Petitioner: Parker Hannifin Corporation.

Section of the FAR Affected: 14 CFR 43.9(a)(4), 43.11(a)(3), appendix B to part 43, and 145.57(a).

Description of Relief Sought/Disposition: To permit Parker to use computer-generated electronic signatures in lieu of physical signatures to satisfy the signature requirements of FAA Form 8130-3, Airworthiness Approval Tag, when the form is used as approval for return to service. Grant, 01/07/2000, Exemption No. 7096.

Docket No.: 28440.

Petitioner: GE Celma S.A.

Section of the FAR Affected: 14 CFR 145.47(b).

Description of Relief Sought/Disposition: To permit GE Celma to use the calibration standards of the Instituto Nacional de Mertologia, Normalização e Qualidade Industrial in lieu of the calibration standards of the U.S. National Institute of Standards and Technology to test its inspection and test equipment. Grant, 02/03/2000, Exemption No. 6546B.

Docket No.: 26017.

Petitioner: Era Helicopters.

Section of the FAR Affected: 14 CFR 43.3(a) and 135.443(b)(3).

Description of Relief Sought/Disposition: To permit Era to allow appropriately trained and certificated pilots employed by Era to install and remove an approved emergency rescue hoist on its Aérospatiale AS 332 Super Puma helicopters. Grant, 02/03/2000, Exemption No. 6760A.

Docket No.: 19634.

Petitioner: Boeing Commercial Airplanes Group.

Section of the FAR Affected: 14 CFR 121.310(d)(4).

Description of Relief Sought/Disposition: To permit operators of McDonnell Douglas DC-8 aircraft to operate these aircraft in passenger-carrying operations without a cockpit control device for each emergency light. Grant, 01/31/2000, Exemption No. 3055J.

Docket No.: 29038.

Petitioner: GE VARIG.

Section of the FAR Affected: 14 CFR 145.47(b).

Description of Relief Sought/Disposition: To permit GE VARIG to use the calibration standards of the Instituto Nacional de Mertologia, Normalização e Qualidade Industrial in lieu of the calibration standards of the U.S. National Institute of Standards and Technology to test its inspection and test equipment. Grant, 01/28/2000, Exemption No. 6709A.

[FR Doc. 00-4639 Filed 2-25-00; 8:45 am]

BILLING CODE 4910-13-M